DEPARTMENT OF AGRICULTURE

Grain Inspection, Packers and Stockyards Administration

7 CFR Part 800

RIN 0580-AB13

Reauthorization of the United States Grain Standards Act

AGENCY: Grain Inspection, Packers and Stockyards Administration, USDA.

ACTION: Proposed rule; correction.

SUMMARY: This document corrects the preamble to a proposed rule published by the Grain Inspection, Packers and Stockyards Administration (GIPSA) in the Federal Register of January 25, 2016, regarding (GIPSA) proposal to revise existing regulations and add new regulations under the United States Grain Standards Act (USGSA), as amended, in order to comply with amendments to the USGSA made by the Agriculture Reauthorizations Act of 2015. The document contained the incorrect RIN.

DATES: Effective February 22, 2016.

FOR FURTHER INFORMATION CONTACT: Barry Gomoll, (202) 720-8286.

SUPPLEMENTARY INFORMATION:

Correction

In proposed rule FR Doc 2016-01083, published on January 25, 2016, 81 FR 3970, make the following correction: On page 3970, in the first column, correct the RIN to read 0580-AB24.

Dated: February 10, 2016.
Larry Mitchell,
Administrator, Grain Inspection, Packers and Stockyards Administration.

[FR Doc. 2016-03196 Filed 2-19-16; 8:45 am]

BILLING CODE P